DEPARTMENT OF LABOR

Employment and Training Administration

[TA-W-62,364; TA-W-62,364B]

Cellular Express, Inc., D/B/A Boston Communications Group, Inc., Bedford, MA; Including An Employee of Cellular Express, Inc., ­D/B/A Boston Communications Group, Inc., Bedford, MA Located in Roseville, MI; Amended Certification Regarding Eligibility To Apply for Worker Adjustment Assistance and Negative Determination Regarding Eligibility To Apply for Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and a Negative Determination Regarding Eligibility to Apply for Alternative Trade Adjustment Assistance on November 14, 2007, applicable to workers of Cellular Express, Inc., d/b/a Boston Communications Group, Inc., Bedford, Massachusetts. The notice was published in the Federal Register on December 10, 2007 (72 FR 69710). The certification was amended on December 20, 2007 to include another location. The notice was published in the Federal Register on December 31, 2007 (72 FR 74341).

At the request of the State agency, the Department reviewed the certification for workers of the subject firm.

New information shows that a worker separation has occurred involving an employee of the Bedford, Massachusetts facility of Cellular Express, Inc., d/b/a Boston Communications Group, Inc., working out of Roseville, Michigan. Ms. Vicki Yax performed support duties for the firm's Bedford, Massachusetts, software development, testing, and monitoring.

Based on these findings, the Department is amending this certification to include an employee of the Bedford, Massachusetts facility of Cellular Express, Inc., d/b/a Boston Communications Group, Inc. working out of Roseville, Michigan.

The intent of the Department's certification is to include all workers of Cellular Express, Inc., d/b/a Boston Communications Group, Inc., Bedford, Massachusetts who were adversely affected by increased imports following a shift in production to India.

The amended notice applicable to TA-W-62,364 is hereby issued as follows:

All workers of Cellular Express, Inc., d/b/a Boston Communications Group, Inc. Bedford, Massachusetts (TA-W-62,364), including an employee of Cellular Express, Inc., ­d/b/a Boston Communications Group, Inc., Bedford, Massachusetts located in Roseville, Michigan (TA-W-62,364B), who became totally or partially separated from employment on or after October 25, 2006, through November 14, 2009, are eligible to apply for adjustment assistance under Section 223 of the Trade Act of 1974.

I further determine that workers of Cellular Express, Inc., d/b/a Boston Communications Group, Inc., Bedford, Massachusetts (TA-W-62,364), including an employee of Cellular Express, Inc., d/b/a Boston Communications Group, Inc., Bedford, Massachusetts located in Roseville, Michigan (TA-W-62,364B), are denied eligibility to apply for alternative trade adjustment assistance under Section 246 of the Trade Act of 1974.

Signed at Washington, DC, this 8th day of February 2008.
Linda G. Poole,
Certifying Officer, Division of Trade Adjustment Assistance.

[FR Doc. E8-3219 Filed 2-21-08; 8:45 am]

BILLING CODE 4510-FN-P